DEPARTMENT OF DEFENSE

Office of the Secretary

[Docket ID: DOD-2016-OS-0103]

Privacy Act of 1974; System of Records

AGENCY: Office of the Secretary of Defense, DoD.

ACTION: Notice to alter a system of records.

SUMMARY: Pursuant to the Privacy Act of 1974, 5 U.S.C. 552a, and Office of Management and Budget (OMB) Circular No. A-130, notice is hereby given that the Office of the Secretary of Defense proposes to alter a system of records, DUSDA 14, entitled “Science, Mathematics, and Research for Transformation Information Management System,” last published at 74 FR 66959, December 17, 2009. This system of records exists to enable the Science, Mathematics, and Research for Transformation (SMART) program officials to select qualified scholarship applicants and monitor their progress through the program.

This update reflects considerable administrative changes that in sum warrant an alteration to the systems of records notice. The categories of records were updated to delineate the information maintained in the records. The purpose was revised to advise individuals that the data may be used for statistical analysis, reporting, research, and evaluation of the program's effectiveness. Additionally, the applicable DoD Routine Uses have been incorporated in the notice to provide clarity for the public. Lastly, the system name, system location, categories of individuals, authorities, storage, retrievability, safeguards, retention and disposal, system manager(s) and address, notification procedures, record access procedures, contesting record procedures, and record source categories have also been updated to ensure the information is accurate and current.

DATES: Comments will be accepted on or before November 21, 2016. This proposed action will be effective the date following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, 4800 Mark Center Drive, Mailbox #24, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mrs. Luz D. Ortiz, Chief, Records, Privacy and Declassification Division (RPD2), 1155 Defense Pentagon, Washington, DC 20301-1155, or by phone at (571) 372-0478.

SUPPLEMENTARY INFORMATION: The Office of the Secretary of Defense notices for systems of records subject to the Privacy Act of 1974 (5 U.S.C. 552a), as amended, have been published in the Federal Register and are available from the address in FOR FURTHER INFORMATION CONTACT or at the Defense Privacy, Civil Liberties and Transparency Division Web site at http://dpcld.defense.gov/.

The proposed system report, as required by 5 U.S.C. 552a(r) of the Privacy Act of 1974, as amended, was submitted on September 23, 2016, to the House Committee on Oversight and Government Reform, the Senate Committee on Governmental Affairs, and the Office of Management and Budget (OMB) pursuant to paragraph 4c of Appendix I to OMB Circular No. A-130, “Federal Agency Responsibilities for Maintaining Records About Individuals,” revised November 28, 2000 (December 12, 2000 65 FR 77677).

Dated: October 17, 2016.
Aaron Siegel,
Alternate OSD Federal Register Liaison Officer, Department of Defense.

DUSDA 14

System name:

Science, Mathematics, and Research for Transformation Information Management System (December 17, 2009, 74 FR 66959).

Changes:

* * * * *

System name:

Delete entry and replace with “Science, Mathematics, and Research for Transformation (SMART) Information Management System.”

System location:

Delete entry and replace with “Defense Technical Information Center (DTIC), Directorate of User Services, Marketing and Registration Division, 8725 John J. Kingman Road, Fort Belvoir, VA 22060-6218.

American Society of Engineering Education (ASEE), 1818 N Street NW., Washington, DC 20036-2476.

Naval Postgraduate School (NPS), 1 University Circle, Bldg. 330, Monterey, CA 93943-5197.

NCI Inc., 400 Camino Aguajito, 1st Floor, Monterey, CA 93940-3541.”

Categories of individuals covered by the system:

Delete entry and replace with “Applicants and participants of the Science, Mathematics, and Research for Transformation (SMART) Scholarship for Service Program.”

Categories of records in the system:

Delete entry and replace with “Information includes full name and any other names used, Social Security Number (SSN), home and school mailing addresses, home and cell phone numbers, school and alternate email addresses.

Additional information collected may include SMART Program identification number, resumes and/or curricula vitae, publications, U.S. Citizenship, Selective Service registration status, birth date, employment status, state and country of birth, race/ethnicity, gender, security clearance status, veterans preference, academic status, assessment test scores, copies of transcripts, bank account numbers, bank routing numbers, Individualized Education Program (IEP) or special accommodations testing requirements, projected and actual graduation dates, and projected and actual award amounts.”

Authority for maintenance of the system:

Delete entry and replace with “5 U.S.C. 3304, Competitive service, examinations; 10 U.S.C. 2192a, Science, Mathematics, and Research for Transformation (SMART) Defense Education Program; 20 U.S.C. Chapter 17, National Defense Education Program; DoD Instruction 1400.25, Volume 410, DoD Civilian Personnel Management System: Training, Education, and Professional Development; and E.O. 9397 (SSN), as amended.”

Purpose(s):

Delete entry and replace with “To enable SMART officials to select qualified applicants to be awarded SMART scholarships and monitor participant progress and status through the program. The system is also used as a management tool for statistical analysis, tracking, reporting, evaluating program effectiveness, and conducting research.”

Routine uses of records maintained in the system, including categories of users and the purposes of such uses:

Delete entry and replace with “In addition to those disclosures generally permitted under 5 U.S.C. 552a(b) of the Privacy Act of 1974, as amended, the records contained herein may specifically be disclosed outside the Department of Defense as a routine use pursuant to § 552a(b)(3) as follows:

To contractors working on a contract for DoD, when necessary to accomplish an agency function related to this system of records. Contractor's provided information under this routine use are subject to the same Privacy Act requirements and limitations on disclosure as applicable to DoD offices and employees.

To academic institutions for the purpose of providing progress reports for applicants and participants.

To consumer reporting agencies as defined in the Fair Credit Reporting Act (15 U.S.C. 1681a(f)) or the Federal Claims Collection Act of 1966 (31 U.S.C. 3701(a)(3)). The purpose of this disclosure is to aid in the collection of outstanding debts owed to the Federal government, typically to provide an incentive for debtors to repay delinquent Federal government debts by making these debts part of their credit records.

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Disclosure When Requesting Information Routine Use: A record from a system of records maintained by a DoD Component may be disclosed as a routine use to a federal, state, or local agency maintaining civil, criminal, or other relevant enforcement information or other pertinent information, such as current licenses, if necessary to obtain information relevant to a DoD Component decision concerning the hiring or retention of an employee, the issuance of a security clearance, the letting of a contract, or the issuance of a license, grant, or other benefit.

Disclosure of Requested Information Routine Use: A record from a system of records maintained by a DoD Component may be disclosed to a federal agency, in response to its request, in connection with the hiring or retention of an employee, the issuance of a security clearance, the reporting of an investigation of an employee, the letting of a contract, or the issuance of a license, grant, or other benefit by the requesting agency, to the extent that the information is relevant and necessary to the requesting agency's decision on the matter.

Congressional Inquiries Disclosure Routine Use: Disclosure from a system of records maintained by a DoD Component may be made to a congressional office from the record of an individual in response to an inquiry from the congressional office made at the request of that individual.

Disclosure to the Department of Justice for Litigation Routine Use: A record from a system of records maintained by a DoD Component may be disclosed as a routine use to any component of the Department of Justice for the purpose of representing the Department of Defense, or any officer, employee or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.”

Policies and practices for storing, retrieving, accessing, retaining, and disposing of records in the system:

Storage:

Delete entry and replace with “Paper and electronic storage media.”

Retrievability:

Delete entry and replace with “Records are retrieved by name and SMART Program identification number.”

Safeguards:

Delete entry and replace with “Access to records is permission-granted based on the role of the individual (need-to-know) and further restricted to individuals who require the data in the performance of official duties. Electronic records are maintained on servers in controlled areas accessible only to authorized personnel. Access to storage areas is restricted to personnel with a valid requirement and authorization to enter. Hardcopy records are kept in locked safes. Physical entry is restricted by the use of one or more of the following: Security guards, identification badges, cipher locks, electronic locks, combination locks, key card access and closed circuit TV. Technical controls consist of user identification, passwords, intrusion detection systems, encryption, External Certificate Authority, firewalls, Virtual Private Network (VPN), DoD Public Key Infrastructure certificates, and Common Access Cards (CACs). Administrative controls consist of periodic security audits, regular monitoring of users' security practices, methods to ensure only authorized personnel have access to Personally Identifiable Information (PII). Personnel who have access to SMART PII take annual Information Assurance and Privacy Act training, as required by the DoD.”

Retention and disposal:

Delete entry and replace with “Participant information will be deleted/destroyed 6 years and 3 months after completion of service commitment, or upon repayment of funds. Records of individuals not chosen for participation in the program will be deleted when 3 years old. DoD research and engineering facility data will be deleted/destroyed upon termination of affiliation.”

System manager(s) and address:

Delete entry and replace with “Director, SMART Scholarship for Service Program, 4800 Mark Center Drive, Alexandria, VA 22350-3600.”

Notification procedure:

Delete entry and replace with “Individuals seeking to determine whether this system of records contains information about themselves may address their inquiries to the Director, SMART Scholarship for Service Program, 4800 Mark Center Drive, Alexandria, VA 22350-3600.

Signed, written requests should contain the individual's full name and SMART Program identification number.”

Record access procedures:

Delete entry and replace with “Individuals seeking access to information about themselves contained in this system should address written inquiries to the Office of the Secretary of Defense/Joint Staff, Freedom of Information Act Requester Service Center, 1155 Defense Pentagon, Washington, DC 20301-1155.

Signed, written requests should contain the individual's full name and SMART Program identification number, and the name and number of this system of records notice.

In addition, the requester must provide a notarized statement or an unsworn declaration made in accordance with 28 U.S.C. 1746, in the following format:

If executed outside the United States: `I declare (or certify, verify, or state) under penalty of perjury under the laws of the United States of America that the foregoing is true and correct. Executed on (date). (Signature).'

If executed within the United States, its territories, possessions, or commonwealths: `I declare (or certify, verify, or state) under penalty of perjury that the foregoing is true and correct. Executed on (date). (Signature).'”

Contesting record procedures:

Delete entry and replace with “OSD rules for accessing records, contesting contents, and appealing initial agency determinations are published in the OSD Administrative Instruction 81; 32 CFR part 311; or may be obtained from the system manager.”

Record source categories:

Delete entry and replace with “Information is received from the individual and SMART Program support staff.”

* * * * *

DUSDA 14

System name:

Science, Mathematics, and Research for Transformation (SMART) Information Management System.

System location:

Defense Technical Information Center (DTIC), Directorate of User Services, Marketing and Registration Division, 8725 John J. Kingman Road, Fort Belvoir, VA 22060-6218.

American Society of Engineering Education (ASEE), 1818 N Street NW., Washington, DC 20036-2476.

Naval Postgraduate School (NPS), 1 University Circle, Bldg. 330, Monterey, CA 93943-5197.

NCI Inc., 400 Camino Aguajito, 1st Floor, Monterey, CA 93940-3541.

Categories of individuals covered by the system:

Applicants and participants of the Science, Mathematics, and Research for Transformation (SMART) Scholarship for Service Program.

Categories of records in the system:

Information includes full name and any other names used, Social Security Number (SSN), home and school mailing addresses, home and cell phone numbers, school and alternate email addresses.

Additional information collected may include SMART Program identification number, resumes and/or curricula vitae, publications, U.S. Citizenship, Selective Service registration status, birth date, employment status, state and country of birth, race/ethnicity, gender, security clearance status, veterans preference, academic status, assessment test scores, copies of transcripts, bank account numbers, bank routing numbers, Individualized Education Program (IEP) or special accommodations testing requirements, projected and actual graduation dates, and projected and actual award amounts.

Authority for maintenance of the system:

5 U.S.C. 3304, Competitive service, examinations; 10 U.S.C. 2192a, Science, Mathematics, and Research for Transformation (SMART) Defense Education Program; 20 U.S.C. Chapter 17, National Defense Education Program; DoD Instruction 1400.25, Volume 410, DoD Civilian Personnel Management System: Training, Education, and Professional Development; and E.O. 9397 (SSN), as amended.

Purpose(s):

To enable SMART officials to select qualified applicants to be awarded SMART scholarships and monitor participant progress and status through the program. The system is also used as a management tool for statistical analysis, tracking, reporting, evaluating program effectiveness, and conducting research.

Routine uses of records maintained in the system, including categories of users and the purposes of such uses:

In addition to those disclosures generally permitted under 5 U.S.C. 552a(b) of the Privacy Act of 1974, as amended, the records contained herein may specifically be disclosed outside the Department of Defense as a routine use pursuant to § 552a(b)(3) as follows:

To contractors working on a contract for DoD, when necessary to accomplish an agency function related to this system of records. Contractor's provided information under this routine use are subject to the same Privacy Act requirements and limitations on disclosure as applicable to DoD offices and employees.

To academic institutions for the purpose of providing progress reports for applicants and participants.

To consumer reporting agencies as defined in the Fair Credit Reporting Act (15 U.S.C. 1681a(f)) or the Federal Claims Collection Act of 1966 (31 U.S.C. 3701(a)(3)). The purpose of this disclosure is to aid in the collection of outstanding debts owed to the Federal government, typically to provide an incentive for debtors to repay delinquent Federal government debts by making these debts part of their credit records.

Law Enforcement Routine Use: If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Disclosure When Requesting Information Routine Use: A record from a system of records maintained by a DoD Component may be disclosed as a routine use to a federal, state, or local agency maintaining civil, criminal, or other relevant enforcement information or other pertinent information, such as current licenses, if necessary to obtain information relevant to a DoD Component decision concerning the hiring or retention of an employee, the issuance of a security clearance, the letting of a contract, or the issuance of a license, grant, or other benefit.

Disclosure of Requested Information Routine Use: A record from a system of records maintained by a DoD Component may be disclosed to a federal agency, in response to its request, in connection with the hiring or retention of an employee, the issuance of a security clearance, the reporting of an investigation of an employee, the letting of a contract, or the issuance of a license, grant, or other benefit by the requesting agency, to the extent that the information is relevant and necessary to the requesting agency's decision on the matter.

Congressional Inquiries Disclosure Routine Use: Disclosure from a system of records maintained by a DoD Component may be made to a congressional office from the record of an individual in response to an inquiry from the congressional office made at the request of that individual.

Disclosure to the Department of Justice for Litigation Routine Use: A record from a system of records maintained by a DoD Component may be disclosed as a routine use to any component of the Department of Justice for the purpose of representing the Department of Defense, or any officer, employee or member of the Department in pending or potential litigation to which the record is pertinent.

Disclosure of Information to the National Archives and Records Administration Routine Use: A record from a system of records maintained by a DoD Component may be disclosed as a routine use to the National Archives and Records Administration for the purpose of records management inspections conducted under authority of 44 U.S.C. 2904 and 2906.

Data Breach Remediation Purposes Routine Use: A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

Policies and practices for storing, retrieving, accessing, retaining, and disposing of records in the system:

Storage:

Paper and electronic storage media.

Retrievability:

Records are retrieved by name and SMART Program identification number.

Safeguards:

Access to records is permission-granted based on the role of the individual (need-to-know) and further restricted to individuals who require the data in the performance of official duties. Electronic records are maintained on servers in controlled areas accessible only to authorized personnel. Access to storage areas is restricted to personnel with a valid requirement and authorization to enter. Hardcopy records are kept in locked safes. Physical entry is restricted by the use of one or more of the following: Security guards, identification badges, cipher locks, electronic locks, combination locks, key card access and closed circuit TV. Technical controls consist of user identification, passwords, intrusion detection systems, encryption, External Certificate Authority, firewalls, Virtual Private Network (VPN), DoD Public Key Infrastructure certificates, and Common Access Cards (CACs). Administrative controls consist of periodic security audits, regular monitoring of users' security practices, methods to ensure only authorized personnel have access to Personally Identifiable Information (PII). Personnel who have access to SMART PII take annual Information Assurance and Privacy Act training, as required by the DoD.

Retention and disposal:

Participant information will be deleted/destroyed 6 years and 3 months after completion of service commitment, or upon repayment of funds. Records of individuals not chosen for participation in the program will be deleted when 3 years old. DoD research and engineering facility data will be deleted/destroyed upon termination of affiliation.

System manager(s) and address:

Director, SMART Scholarship for Service Program, 4800 Mark Center Drive, Alexandria, VA 22350-3600.

Notification procedure:

Individuals seeking to determine whether this system of records contains information about themselves may address their inquiries to the Director, SMART Scholarship for Service Program, 4800 Mark Center Drive, Alexandria, VA 22350-3600.

Signed, written requests should contain the individual's full name and SMART Program identification number.

Record access procedures:

Individuals seeking access to information about themselves contained in this system should address written inquiries to the Office of the Secretary of Defense/Joint Staff, Freedom of Information Act Requester Service Center, 1155 Defense Pentagon, Washington, DC 20301-1155.

Signed, written requests should contain the individual's full name and SMART Program identification number, and the name and number of this system of records notice.

In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

Contesting record procedures:

OSD rules for accessing records, contesting contents, and appealing initial agency determinations are published in the OSD Administrative Instruction 81; 32 CFR part 311; or may be obtained from the system manager.

Record source categories:

Information is received from the individual and SMART Program support staff.

Exemptions claimed for the system:

None.

[FR Doc. 2016-25411 Filed 10-19-16; 8:45 am]

BILLING CODE 5001-06-P